DEPARTMENT OF THE INTERIOR

Bureau of Land Management

[18X.LLAK930000 L13100000.PP0000]

Notice of Availability of the Final Supplemental Environmental Impact Statement for the Alpine Satellite Development Plan for the Greater Mooses Tooth 2 Development Project, National Petroleum Reserve in Alaska

AGENCY: Bureau of Land Management, Interior

ACTION: Notice of availability.

SUMMARY: The Bureau of Land Management (BLM), Arctic District Office, Fairbanks, Alaska, is issuing the Final Supplemental Environmental Impact Statement (EIS) for the Alpine Satellite Development Plan for the Greater Mooses Tooth 2 (GMT2) Development Project, National Petroleum Reserve in Alaska (NPR-A). The EIS supplements the September 2004 Alpine Satellite Development Plan Final EIS that originally analyzed the GMT2 Project, regarding establishing satellite oil production pads and associated infrastructure within the Alpine field.

DATES: The BLM will issue a Record of Decision for the application for permit to drill no earlier than 30 days from the date of the Notice of Availability published by the Environmental Protection Agency.

ADDRESSES: Requests for information regarding the Final Supplemental EIS may be mailed to: GMT2 Final Supplemental EIS, Attn: Stephanie Rice, 222 West 7th Avenue #13, Anchorage, Alaska 99513. The GMT2 Final Supplemental EIS is available online at BLM Alaska's website at http://www.blm.gov/alaska. You may also request an electronic or paper copy of the GMT2 Final Supplemental EIS by contacting Stephanie Rice, BLM project lead, at 907-271-3202.

FOR FURTHER INFORMATION CONTACT: Stephanie Rice, BLM Alaska State Office, 907-271-3202. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The GMT2 Supplemental EIS analyzes an application from ConocoPhillips Alaska, Inc. (ConocoPhillips). The application is for a permit to drill and related authorizations to construct, operate, and maintain a drill site, access road, pipelines, and ancillary facilities on federally managed land to support development of petroleum resources at the GMT2 drill site. BLM Alaska manages the surface and subsurface at the drill site and at the proposed infield road and pipeline route. ConocoPhillips may also develop subsurface resources owned by the Arctic Slope Regional Corporation, and may occupy surface lands owned by the Kuukpik Corporation.

The proposed GMT2 site is approximately 25 miles southwest of the ConocoPhillips-operated Alpine Central Processing Facility (CD1) and will be operated and maintained by staff at the Alpine Central Processing Facility.

The GMT2 Project was originally analyzed as the Colville Delta 7 (CD7) drill pad in the BLM's September 2004 Alpine Satellite Development Plan Final EIS. The purpose of the Supplemental EIS is to evaluate any relevant new circumstances and information that have arisen since the Alpine Satellite Development Plan Final EIS, to update the alternatives in the 2004 EIS, and to address any changes to ConocoPhillips' proposed development plan for GMT2. The GMT2 Final Supplemental EIS analyzes four alternatives, including two alternatives with an access road, an alternative without an access road, and a no-action alternative.

The Supplemental EIS will result in a Record of Decision (ROD) that will approve, deny, or approve with modification, ConocoPhillips' application, as well as incorporate any additional mitigation measures that may be appropriate. The Draft Supplemental EIS, published in March 2018, identified Alternative A, the Proponent's Proposal, as the BLM's preferred alternative. The Final Supplemental EIS also identifies Alternative A as BLM's Preferred Alternative.

The key issues in the GMT2 Final Supplemental EIS are the protection of surface resources; the minimization of social impacts; and the identification of appropriate mitigation measures for the construction, operation, and maintenance of a drill site and access road, pipelines, and ancillary facilities to support development of petroleum resources at the proposed GMT2 site.

Authority: 40 CFR 1506.6(b).

Karen E. Mouritsen,
Acting State Director, Alaska.

[FR Doc. 2018-19197 Filed 9-4-18; 8:45 am]

BILLING CODE 4310-JA-P